NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 10, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, U.S. Army Criminal Investigation Command (N1-AU-01-4, 2 items, 2 temporary items). Master file and outputs of the Army Criminal Investigation Reporting System, an electronic information system used for data concerning criminal investigations. Records include name, Social Security number, date of birth, rank, installation, and other data concerning suspects.

2. Department of Commerce, National Oceanographic and Atmospheric Administration (N1-370-01-2, 1 item, 1 temporary item). Photographs, forecast maps, and other observational data generated by satellites. Records were used to prepare short-term weather forecasts during the period 1969 to 1988.

3. Department of Commerce, U.S. Patent and Trademark Office (N1-241-01-6, 9 items, 9 temporary items). Fax transmissions stored as electronic images in a central repository. Records include images of incoming and outgoing faxes with associated transmission data. Also included are electronic copies of records created using electronic mail and word processing.

4. Department of Commerce, U.S. Patent and Trademark Office (N1-241-01-7, 4 items, 4 temporary items). Complaints filed by individual inventors against invention promoters. Records include paper complaint forms and logs and electronic copies of complaints posted on the agency web site.

5. Department of Housing and Urban Development, Office of Federal Housing Enterprise Oversight (N1-543-01-1, 2 items, 2 temporary items). Chronological files of the Associate Director and Deputy Associate Director of the Office of Finance and Administration consisting of copies of outgoing correspondence. Also included are electronic copies of records created using electronic mail and word processing.

6. Department of Labor, Office of Administrative Law Judges (N1-174-00-4, 15 items, 12 temporary items). General and congressional correspondence, case files that do not meet selection criteria for permanent retention or for which the office is not the official custodian, and judges' working files. Also included are electronic copies of documents created using electronic mail and word processing. Proposed for permanent retention are recordkeeping copies of files relating to significant cases, final decisions, and manuals pertaining to policies and procedures.

7. Department of State, Legal Adviser for Arms Control and Verification (N1-59-01-9, 4 items, 2 temporary items). Electronic copies of Subject Files and Treaty Negotiation Files created using electronic mail and word processing. The recordkeeping copies of these files are proposed for permanent retention.

8. Department of State, Bureau of Consular Affairs (N1-59-01-13, 3 items, 3 temporary items). Records relating to public service announcements, including audio and videotapes of broadcasts, scripts, distribution lists, and background papers. Also included are electronic copies of records created using electronic mail and word processing.

9. Agency for International Development, Agency-wide (N1-286-00-3, 3 items, 2 temporary items). Records of lower-level offices and offices responsible for administrative support matters as well as records of geographic and functional bureaus and offices that are duplicative, pertain to housekeeping matters, or were previously approved for disposal in agency schedules. Records, which predate 1985, include temporary files that are intermixed with permanent records and will be disposed of by NARA during archival processing. Substantive subject and country files dealing with mission-related matters are proposed for permanent retention.

10. Environmental Protection Agency, Office of Prevention (N1-412-01-6, 4 items, 2 temporary items). Paper records that have been microfilmed relating to the review and approval process for genetically modified microorganisms prior to their importation or manufacture in the U.S. Also included are electronic copies of documents created using electronic mail and word processing. Microfilm copies and paper records that have not been filmed are proposed for permanent retention.

11. Federal Emergency Management Agency, Flood Insurance Administration (N1-311-01-2, 2 items, 2 temporary items). Regional office background material for flood hazard studies including correspondence, drafts, maps, and checklists. Also included are electronic copies of documents created using electronic mail and word processing.

12. National Credit Union Administration, Office of the Board and Chairman (N1-413-01-1, 13 items, 9 temporary items). Audiotapes of meetings, members' subject files, and delegations of authority. Also included are electronic copies of documents created using electronic mail and word processing. Proposed for permanent retention are recordkeeping copies of minutes of meetings, records of votes, chronological files, and speeches.

13. Tennessee Valley Authority, Human Resources (N1-142-01-3, 8 items, 8 temporary items). Electronic master files, with related inputs, outputs, and system documentation, pertaining to employee and contractor medical matters. The system includes data concerning such matters as medical services requested, job duty status, approvals for special duties, respirator approvals, and the status of monitoring exams. Also included are electronic copies of documents created using electronic mail and word processing. Master files and recordkeeping copies of respirator approvals are proposed for a retention period of forty years.

Dated: June 20, 2001.
Michael J. Kurtz,
Assistant Archivist for Record Services—Washington, DC.

[FR Doc. 01-15961 Filed 6-25-01; 8:45 am]

BILLING CODE 7515-01-U